DEPARTMENT OF THE INTERIOR

Bureau of Reclamation

North San Pablo Bay Restoration and Reuse Project, California

AGENCY: Bureau of Reclamation, Interior.

ACTION: Notice of intent to prepare an environmental impact statement/environmental impact report (EIS/EIR) and notice of public scoping meetings.

SUMMARY: Pursuant to the National Environmental Policy Act (NEPA) and the California Environmental Quality Act (CEQA), the Bureau of Reclamation (Reclamation), the lead Federal agency, and the Sonoma County Water Agency, acting as administrator for the North Bay Water Reuse Authority (NBWRA) and the lead State agency, will prepare a joint EIS/EIR for the proposed North San Pablo Bay Restoration and Reuse Project (Proposed Action). The purpose of the Proposed Action is to create a regional wastewater reuse project to provide recycled water for agricultural, urban, and environmental uses as an alternative to discharging treated wastewater to San Pablo Bay. In this way, water demand issues and wastewater discharge issues of the region can be addressed in an integrated and synergistic manner.

DATES: A series of scoping meetings will be held to solicit public input on the scope of the environmental document, alternatives, concerns, and issues to be addressed in the EIS/EIR. The scoping meeting dates are:

• Monday, August 4, 2008, 6:30 p.m. to 7:30 p.m., Napa, CA.

• Tuesday, August 5, 2008, 6:30 p.m. to 7:30 p.m., Novato, CA.

• Wednesday, August 6, 2008, 6:30 p.m. to 7:30 p.m., Sonoma Community Center, 276 East Napa Street, Sonoma, CA.

Written comments on the scope of the EIS/EIR will be accepted until August 20, 2008.

ADDRESSES: The public scoping meetings will be held at:

• Napa at Napa Elks Lodge, 2840 Soscol Avenue.

• Novato at Margaret Todd Senior Center, 1560 Hill Road.

• Sonoma at Sonoma Community Center, 276 East Napa Street.

Written comments on the scope of the EIS/EIR should be sent to Mr. Marc Bautista, Sonoma County Water Agency, 404 Aviation Boulevard, Santa Rosa, CA 95403; or e-mailed to Marc.Bautista@scwa.ca.gov.

FOR FURTHER INFORMATION CONTACT: Mr. Marc Bautista, Sonoma County Water Agency (SCWA) at the SCWA general telephone number 707-547-1998, e-mail at: mbautista@scwa.ca.gov; or Mr. David White, Reclamation, at 916-978-5074, e-mail at: dtwhite@mp.usbr.gov.

SUPPLEMENTARY INFORMATION:

Background

The NBWRA, comprised of four wastewater utilities and one water agency in the North San Pablo Bay region of California, plans to expand the use of recycled water and reduce discharge into San Pablo Bay with this long-term inter-agency project. The area encompasses 318 square miles of land in Marin, Sonoma, and Napa Counties. Participants include Las Gallinas Valley Sanitation District (LGVSD), Novato Sanitation District (Novato SD), Sonoma Valley County Sanitation District (SVCSD), and Napa Sanitation District (Napa SD). In addition, North Marin Water District and the County of Napa are participating financially and providing support. Sonoma County Water Agency is acting as project administrator, and will be the CEQA Lead Agency. Reclamation is the federal lead agency for NEPA because the Proposed Action may be partially federally funded under Title XVI of Public Law 102-575, as amended, which provides a mechanism for federal participation and cost sharing in approved water reuse projects.

The North San Pablo Bay regions of Sonoma, Marin and Napa Counties are facing long-term water supply short-falls. Surface and groundwater supplies within these areas are limited, and some local groundwater basins are over-pumped, with detrimental effects on water levels and water quality. Recycled water can augment local water supplies on a regional basis, provide water that meets agricultural and municipal non-potable quality needs, and provide increased reliability.

Additionally, a clean, reliable water supply is needed in order to continue the restoration of tidal wetlands in San Pablo Bay that contain habitat for endangered and threatened species. Wastewater treatment agencies also face strict regulatory limits on the timing and quality of the treated wastewater they can discharge to San Pablo Bay, as well as the rivers and streams that flow to it. By treating wastewater to the stricter regulatory levels required for reuse, the agencies can recycle the water productively to address water supply needs and reduce the amount released to San Pablo Bay and its tributaries.

The public could benefit through the reduction in use of natural regional surface and groundwater supplies, the reduction of wastewater discharge to regional waterways, and the resulting environmental benefit to fish and wildlife. By working cooperatively, the participants increase opportunities for state and federal grants, and cost sharing opportunities, that lower costs to customers.

NBWRA has developed a regional program for expanding cooperative water reuse within the North San Pablo Bay region. The Proposed Action consists of distribution facilities, treatment capacity improvements, and storage to make between 17,000 and 25,000 acre-feet per year of recycled water available for environmental, agricultural, and municipal reuse, consistent with the California Code of Regulations, Title 22, pertaining to the use of tertiary-treated recycled water.

At this time, there are no known or possible Indian trust assets or environmental justice issues associated with the Proposed Action.

Special Assistance for Public Scoping Meetings

If special assistance is required to participate in the public hearings, please contact David White at 916-978-5074, TDD 916-978-5608, or via e-mail at dtwhite@mp.usbr.gov. Please notify Mr. White as far in advance as possible to enable Reclamation to secure the needed services. If a request cannot be honored, the requestor will be notified. A telephone device for the hearing impaired (TDD) is available at 916-978-5608.

Public Disclosure

Before including your name, address, phone number, e-mail address, or other personal identifying information in your comment, you should be aware that your entire comment—including your personal identifying information—may be made publicly available at any time. While you can ask us in your comment to withhold your personal identifying information from public review, we cannot guarantee that we will be able to do so.

Dated: June 4, 2008.
Susan M. Fry,
Regional Environmental Officer, Mid-Pacific Region.

[FR Doc. E8-17228 Filed 7-25-08; 8:45 am]

BILLING CODE 4310-MN-P